DEPARTMENT OF TRANSPORTATION

Federal Highway Administration

Environmental Impact Statement: Allegheny County, Pennsylvania

AGENCY: Federal Highway Administration (FHWA), DOT.

ACTION: Notice of Intent.

SUMMARY: The FHWA is issuing this notice to advise the public that an Environmental Impact Statement will be prepared for a proposed highway project in the City of Pittsburgh and the Borough of Millvale in Allegheny County, Pennsylvania.

FOR FURTHER INFORMATION CONTACT:

David W. Cough, P.E., Operations Group Leader, Federal Highway Administration, Pennsylvania Division Office, 228 Walnut Street, Room 536, Harrisburg, PA 17101-1720, Telephone: (717) 221-3411

OR

William Gibson, P.E., Project Manager, Pennsylvania Department of Transportation, District 11-0, 45 Thoms Run Road, Bridgeville, PA 15017, Telephone: (412) 429-4930.

SUPPLEMENTARY INFORMATION: The FHWA, in cooperation with the Pennsylvania Department of Transportation (PennDOT), will prepare an Environmental Impact Statement (EIS) to identify and evaluate alternatives for the reconstruction and widening of State Route 28 including improvements to the intersections of State Route 28 and the 31st Street Bridge and State Route 28 and the 40th Street Bridge. The proposed action would extend from Heinz Street in the City of Pittsburgh, to the Millvale Interchange in the Borough of Millvale. The length of the project is 3.3 kilometers (2.0) miles. Included in the overall project will be the identification of a range of alternatives that meet the identified project need, and supporting environmental documentation and analysis to recommend a selected alternative for implementation. A complete public involvement program is part of the project.

Documentation of the need for the project was completed in 1997. This process identified the need for roadway improvements through the study area based on local and regional transportation demand, system linkage and continuity, geometric criteria, safety and local and regional planning.

Alternatives that will be considered include: No Build; Widen left on existing alignment to bring roadway to freeway standards; Widen right on existing alignment to bring roadway to freeway standards; Widening alternative that combines widening left and right to bring roadway to freeway standards; and Improvements resulting in non-standard freeway design features. A number of intersection and interchange alternatives at the 31st Street and 40th Street Bridges will be studied. These alternatives will be the basis for recommendation of alternatives to be carried forward for detailed environmental and engineering studies in the EIS.

Letters describing the proposed action and soliciting comments will be sent to appropriate federal, state and local agencies and to private organizations and citizens who express interest in this proposal. Public meetings will be held in the area throughout the study process. Public involvement and agency coordination will be maintained throughout the development of the EIS.

To ensure that the full range of issues related to the proposed action are addressed and all significant issues are identified, comments and suggestions are invited from all interested parties. Comments or questions concerning this proposed action and the EIS should be directed to FHWA or PennDOT at the addresses provided above.

(Catalog of Federal Domestic Assistance Program Number 20.205, Highway Planning and Construction. The regulations implementing Executive Order 12372 regarding intergovernmental consultation on Federal programs and activities apply to this program)

James A. Cheatham,
FHWA Division Administrator, Harrisburg, PA.

[FR Doc. 00-9517 Filed 4-14-00; 8:45 am]

BILLING CODE 4910-22-M